OVERSEAS PRIVATE INVESTMENT CORPORATION

Submission for OMB Review; Comments Request

AGENCY: Overseas Private Investment Corporation (OPIC).

ACTION: Notice and request for comments.

SUMMARY: Under the provisions of the Paperwork Reduction Act, agencies are required to publish a Notice in the Federal Register notifying the public that the agency is modifying an existing previously approved information collection for OMB review and approval and requests public review and comment on the submission. OPIC received comments in response to the sixty (60) day notice, and pursuant to those comments, made no changes. The 60 Day Notice was published in Federal Register on May 3, 2018. The purpose of this notice is to allow an additional thirty (30) days for public comments to be submitted. Comments are being solicited on the need for the information; the accuracy of OPIC's burden estimate; the quality, practical utility, and clarity of the information to be collected; and ways to minimize reporting the burden, including automated collected techniques and uses of other forms of technology.

DATES: Comments must be received within thirty (30) calendar days of publication of this Notice.

ADDRESSES: Mail all comments and requests for copies of the subject form to OPIC's Agency Submitting Officer: James Bobbitt, Overseas Private Investment Corporation, 1100 New York Avenue NW, Washington, DC 20527. See SUPPLEMENTARY INFORMATION for other information about filing.

FOR FURTHER INFORMATION CONTACT: OPIC Agency Submitting Officer: James Bobbitt, (202) 336-8558.

SUPPLEMENTARY INFORMATION: All mailed comments and requests for copies of the subject form should include form number OPIC-129 on both the envelope and in the subject line of the letter. Electronic comments and requests for copies of the subject form may be sent to James.Bobbitt@opic.gov, subject line OPIC-129.

Summary Form Under Review

Type of Request: Revision of currently approved information collection.

Title: Sponsor Disclosure Report.

Form Number: OPIC-129.

Frequency of Use: One per investor per project.

Type of Respondents: Business or other institution (except farms); individuals.

Standard Industrial Classification Codes: All.

Description of Affected Public: U.S. companies or citizens investing overseas.

Reporting Hours: 500 (1 hours per form).

Number of Responses: 500 per year.

Federal Cost: $27,455 ($54.91 × 500 × 1).

Authority for Information Collection: Sections 231, 234(a), 239(d), and 240A of the Foreign Assistance Act of 1961, as amended.

Abstract (Needs and Uses): The information provided in the OPIC-129 is used by OPIC as a part of the Character Risk Due Diligence/background check procedure (similar to a commercial bank's Know Your Customer procedure) that it performs on each party that has a significant relationship (10% or more beneficial ownership, provision of significant credit support, significant managerial relationship) to the projects that OPIC finances or insures. OPIC has a robust due diligence process that includes access to electronic databases. Certain questions that can be addressed through such electronic databases have been removed from the OPIC-129 form to eliminate duplication. These search tools provide immediate results, and thus, the OPIC-129 form is only one aspect of the due diligence review. The form has also been revised to update the electronic input fields in a manner that is consistent with new programming at OPIC. The form will include limited drop-down menus tailored to the specific applicant and OPIC business line.

Dated: July 5, 2018.
Nichole Skoyles,
Administrative Counsel, Department of Legal Affairs.

[FR Doc. 2018-14761 Filed 7-10-18; 8:45 am]

BILLING CODE 3210-01-P